DEPARTMENT OF TRANSPORTATION

Federal Aviation Administration

Public Notice of Intent To Rule on a Land Release Request for Disposal of Airport Property at Lakewood Airport, Lakewood, NJ

AGENCY: Federal Aviation Administration (FAA), DOT.

ACTION: Notice of request for disposal of on-airport property acquired with Federal funding.

SUMMARY: The FAA proposes to rule and invites public comment on Lakewood Industrial Commission and Lakewood Township to dispose of 59.8036 acres of federally obligated airport property at Lakewood Airport, Lakewood, NJ. This acreage was acquired with federal financial assistance via Airport Improvement Program Federal Grants #3-34-SBGP-04-95 and 3-34-SBGP-05-96, and grant agreements issued through the New Jersey Department of Aviation under AIP BGP # -34-0076-01-96. The proposed use of land after the release will be consistent with the local zoning of “Airport Business Commercial,” and will not interfere with the airport or its operation.

DATES: Comments must be received on or before October 17, 2025.

FOR FURTHER INFORMATION CONTACT: Comments on this application may be mailed or delivered to the following address:

Steven Reinman, Airport Manager, Lakewood Airport, 231 Third Street, Lakewood, NJ 08701

and at the FAA Harrisburg Airports District Office:

Brian Gearhart, Assistant Manager, Harrisburg Airports District Office, 3905 Hartzdale Dr., Suite 508, Camp Hill, PA 17011, (717) 603-4671

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition on federally acquired land on a federally obligated airport.

The following is a brief overview of the request:

The Lakewood Industrial Commission and Lakewood Township have submitted a land release request seeking FAA approval for the disposal of 59.8036 acres of federally obligated airport property. The property is located approximately 700-1,000 feet to the east of the parallel taxiway to Runway 6/24 at the airport and abuts Airport Road. The parcel is not currently required or anticipated to be required for aeronautical use.

The 59.8036 acres of land to be released was originally acquired as part of the acquisition of the majority of airport property, using Federal funds. Subsequent to the implementation of the proposed disposal, monies received by the airport from the sale of the property will be used in accordance with 49 U.S.C. 47107(c). The proposed use of the property will not interfere with the airport or its operation.

Any person may inspect the request by appointment at the FAA office address listed above.

Interested persons are invited to comment. All comments will be considered by the FAA to the extent practicable.

Issued in Camp Hill, Pennsylvania.
Brian Gearhart,
Assistant Manager, Harrisburg Airports District Office.

[FR Doc. 2025-17845 Filed 9-15-25; 8:45 am]

BILLING CODE 4910-13-P